DEPARTMENT OF TRANSPORTATION

Pipeline and Hazardous Materials Safety Administration

[Docket No. PHMSA-2011-0127]

Pipeline Safety: Meetings of the Technical Pipeline Safety Standards Committee and the Technical Hazardous Liquid Pipeline Safety Standards Committee

AGENCY: Pipeline and Hazardous Materials Safety Administration (PHMSA), DOT.

ACTION: Notice; Announcement of Meeting Location and Date Change.

SUMMARY: In a Federal Register notice published on May 20, 2011, (76 FR 29333) PHMSA announced that the Technical Pipeline Safety Standards Committee (TPSSC) and the Technical Hazardous Liquid Pipeline Safety Standards Committee (THLPSSC) would meet on August 2-3, 2011, from 9 a.m. to 5 p.m. The meeting dates have been changed. The TPSSC and the THLPSSC will now meet on August 2, 2011, only, from 9 a.m. to 5 p.m. The meeting will be held at The Weston Arlington Gateway, 801 North Glebe Road, Arlington, VA 22203.

Please refer to the May 20, 2011, (76 FR 29333) notice for more details about the meeting. The TPSSC and THLPSSC will consider a draft pipeline safety report to the nation. The meeting will be open to the public.

Authority: 49 U.S.C. 60102, 60115; 60118.

Issued in Washington, DC, on July 14, 2011.
Alan K. Mayberry,
Deputy Associate Administrator for Field Operations.

[FR Doc. 2011-18319 Filed 7-20-11; 8:45 am]

BILLING CODE 4910-60-P